DEPARTMENT OF THE INTERIOR

Bureau of Land Management

[OR-050-1020-MJ; HAG 06 0105]

John Day/Snake Resource Advisory Council: Notice of Public Meeting

AGENCY: Bureau of Land Management (BLM), Prineville District.

ACTION: Notice of Public Meetings—John Day/Snake Resource Advisory Council (RAC).

SUMMARY: In accordance with the Federal Land Policy and Management Act and the Federal Advisory Committee Act of 1972, the Department of the Interior, BLM John Day Snake RAC will meet as indicated below:

The John Day/Snake RAC is scheduled to meet on May 3, 2006, at the Best Western Prineville Inn, 1475 NE 3rd Street, Prineville, Oregon 97754 and on September 13, 2006 at the Best Western John Day Inn, 315 W. Main, John Day, Oregon 97845. The meeting times will be from approximately 8 a.m. to 4 p.m. A public comment period will begin at 1 p.m. and end at 1:15 p.m. (Pacific Standard Time). The meetings may include such topics as off-highway vehicle and travel management, noxious weeds, planning, Sage grouse, and other matters as may reasonably come before the council.

Meeting Procedures: The meeting is open to the public. The public may present written comments to the RAC. Depending on the number of persons wishing to provide oral comments and agenda topics to be covered, the time to do so may be limited. Individuals who plan to attend and need special assistance such as sign language interpretation, tour transportation or other reasonable accommodations, should contact the BLM representative indicated below. For a copy of the information to be distributed to the RAC members, please submit a written request to the BLM Prineville District Office 10 days prior to the meeting.

FOR FURTHER INFORMATION CONTACT: Additional information concerning the John Day/Snake RAC may be obtained from Virginia Gibbons, BLM Public Affairs Specialist, Prineville District Office, 3050 NE. Third Street, Prineville, Oregon 97754, (541) 416-6647 or e-mail Virginia Gibbons@or.blm.gov.

Dated: April 5, 2006.
A. Barron Bail,
District Manager.

[FR Doc. E6-5355 Filed 4-11-06; 8:45 am]

BILLING CODE 4310-33-P